DEPARTMENT OF AGRICULTURE

Forest Service

Deschutes and Ochoco Resource Advisory Committee

AGENCY: Forest Service, USDA.

ACTION: Notice of meeting.

SUMMARY: The Deschutes and Ochoco Resource Advisory Committee (RAC) will meet in Bend, OR. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is select projects.

DATES: The meeting will be held May 27th, June 16th or June 20th, 2014.

All RAC meetings are subject to cancellation. For status of meeting prior to attendance, please contact the person listed under FOR FURTHER INFORMATION CONTACT.

ADDRESSES: The meeting will be held at Central Oregon Intergovernmenatl Council, 334 NE Hawthorne Avenue, Bend, OR 97701.

Written comments may be submitted as described under SUPPLEMENTARY INFORMATION. All comments, including names and addresses when provided, are placed in the record and are available for public inspection and copying. The public may inspect comments received at Deschutes National Forest, 63095 Deschutes Market Road, Bend, OR 97701. Please call ahead to facilitate entry into the building.

FOR FURTHER INFORMATION CONTACT: Alicia Underhill, Deschutes and Ochoco Title II RAC Program Coordinator by phone at 541-383-4012 or via email at aunderhill@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accomodation for access to the facility or procedings by contacting the person listed FOR FURTHER INFORMATION CONTACT.

SUPPLEMENTARY INFORMATION: Additional RAC information, including the meeting agenda and the meeting summary/minutes can be found at the following Web site: http://www.fs.usda.gov/centraloregon. The agenda will include time for people to make oral statements of three minutes or less. Individuals wishing to make an oral statement should request in writing by May 22nd, 2014 to be scheduled on the agenda. Anyone who would like to bring related matters to the attention of the committee may file written statements with the committee staff before or after the meeting. Written comments and requests for time for oral comments must be sent to Alicia Underhill, Dechutes and Ochoco Title II RAC Program Coordinator, Dechutes National Forest, 63095 Deschutes Market Road, Bend, OR 97701; or by email to aunderhill@fs.fed.us or via facsimile to 541-383-4700.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: April 30, 2014.
John Allen,
Designated Federal Offical, Dechutes National Forest, Forest Supervisor.

[FR Doc. 2014-10522 Filed 5-6-14; 8:45 am]

BILLING CODE 3410-15-P